DEPARTMENT OF HEALTH AND HUMAN SERVICES

Substance Abuse and Mental Health Services Administration

Center for Substance Abuse Treatment; Notice of Meeting

Pursuant to Public Law 92-463, notice is hereby given that the Substance Abuse and Mental Health Services Administration's (SAMHSA's) Center for Substance Abuse Treatment (CSAT) National Advisory Council will meet on February 24, 2016, 9:00 a.m.-5:00 p.m. (EDT).

The meeting is open and will include consideration of minutes from the SAMHSA CSAT NAC meeting of August 26, 2015, the CSAT Director's report, budget update, a presentation related to the opiate use disorders among Native Americans, a presentation related to the effects of the opioid epidemic on youth and young people, a presentation related to substance use disorders and criminal justice reform, a presentation related to peer recovery support services in diverse settings, an overview of Recovery Month.

The meeting will be held at the SAMHSA, 5600 Fishers Lane, Room 5E45, Rockville, MD 20857. Attendance by the public will be limited to space available. Public comments are welcome. Interested persons may present data, information, or views, orally or in writing, on issues pending before the Council. Written submissions should be forwarded to the contact person on or before February 15, 2016. Oral presentations from the public will be scheduled at the conclusion of the meeting. Individuals interested in making oral presentations are encouraged to notify the contact on or before February 15, 2016. Five minutes will be allotted for each presentation.

The open meeting session may be accessed via telephone. To attend on site, obtain the call-in number and access code, submit written or brief oral comments, or request special accommodations for persons with disabilities, please register on-line at http://nac.samhsa.gov/Registration/meetingsRegistration.aspx, or communicate with Tracy Goss SAMHSA/CSAT NAC Designated Federal Officer (see contact information below).

Substantive meeting information and a roster of Council members may be obtained either by accessing the SAMHSA Council Web site at: http://www.samhsa.gov/about-us/advisory-councils/csat-national-advisory-council or by contacting Tracy Goss.

Substantive program information may be obtained after the meeting by accessing the SAMHSA Council Web site, http://nac.samhsa.gov/, or by contacting Tracy Goss.

Council Name: SAMHSA's Center for Substance Abuse Treatment National Advisory Council.

Date/Time/Type: February 24, 2016, 9:00 a.m.-5:00 p.m. EDT, OPEN.

Place: SAMHSA, 5600 Fishers Lane, Room 5E45, Rockville, Maryland 20857.

Contact: Tracy Goss, Designated Federal Officer, CSAT National Advisory Council, 5600 Fishers Lane, Rockville, Maryland 20857 (mail), Telephone: (240) 276-0759, Fax: (240) 276-2252, Email: tracy.goss@samhsa.hhs.gov.

Summer King,
Statistician, SAMHSA.

[FR Doc. 2016-02794 Filed 2-10-16; 8:45 am]

BILLING CODE 4162-20-P